DEPARTMENT OF TRANSPORTATION

Federal Aviation Administration

[DOT-OST-2022]

Research, Engineering, and Development Advisory Committee (REDAC); Revitalization Membership Plan

AGENCY: Federal Aviation Administration, Department of Transportation.

ACTION: Solicitation of nominations for appointment to the Research, Engineering, and Development Advisory Committee (REDAC).

SUMMARY: This notice announces the solicitation of memberships for the Research, Engineering, and Development Advisory Committee (REDAC).

DATES: Nominations must be received no later than 11:59 p.m. eastern time on December 31, 2022. Nominations received after the above due date may be retained for evaluation for future REDAC vacancies after all other nominations received by the due date have been reviewed and considered.

ADDRESSES: Nominations can be submitted electronically (via email) to Chinita Roundtree-Coleman, in the FAA's Research and Development Management Division, ANG-E42, at chinita.roundtree-coleman@faa.gov. The body of the email must contain content or attachments that address all requirements as specified in the below “Materials to Submit” section. Incomplete/partial submittals, as well as those that exceed the specified document length may not be considered for evaluation. An email confirmation from the FAA will be sent upon receipt of all complete nominations that meet the criteria in the “Materials to Submit” section. Anyone wishing to submit an application by paper may do so by contacting Chinita Roundtree-Coleman via email or telephone at (609) 485-7149 or (609) 569-3729. The FAA will notify those appointed to serve on the REDAC in writing.

FOR FURTHER INFORMATION CONTACT: Chinita Roundtree-Coleman, REDAC PM/Lead, FAA/U.S. Department of Transportation, at chinita.roundtree-coleman@faa.gov or (609) 485-7149 or (609) 569-3729.

SUPPLEMENTARY INFORMATION:

I. Background

The Research, Engineering, and Development Advisory Committee was created under the Federal Advisory Committee Act (FACA), in accordance with Public Law 100-591 (1988) and Public Law 101-508 (1990) to provide advice and recommendations to the FAA Administrator in support of the Agency's Research and Development (R&D) portfolio.

II. Description of Duties

In accordance with 49 U.S. Code 44508, the REDAC conducts assessments of the FAA's technical R&D programs and projects to:

• Provide advice and recommendations to the Administrator regarding needs, objectives, plans, approaches, content, and accomplishments with respect to the aviation research program,

• Assist in ensuring that the research is coordinated with similar research being conducted outside the Administration,

• Review the operation of the air transportation centers of excellence and,

• Review the annual allocations made by the Administrator across major R&D categories.

If selected to serve on the REDAC, travel to FAA headquarters in Washington, DC (or other locations) no less than twice per year is required in order to attend committee meetings. By accepting the nomination, preparation and read ahead material review is often necessary regarding agendas and/or special tasks as required.

III. Membership

The membership must be fairly balanced in terms of points of view represented and the functions performed. In accordance with 49 U.S. Code 44508 and departmental policy, the REDAC will consist of no more than 25 members on the parent committee. Membership terms are two years and will be considered for renewal or resignation upon committee evaluations to ensure the efficacy of team compositions required to fulfill objectives. Selectees will be considered in one of the following categories: Representatives, Special Government Employee (SGE) or Regular Government Employee (RGE). Annual training and the submission of required disclosure documentation must be completed upon request.

The desired stakeholder groups represented on the REDAC include individuals with expertise and knowledge of industry trends in one or more of the following areas:

—Aircraft Safety

—Airport Infrastructure and Technologies

—Human and/or Aeromedical Factors

—National Airspace System (NAS) Operations

—Environment & Energy

—Digital Systems and Technologies (Cybersecurity, Artificial Intelligence, Machine Learning, Data Science and Analytics)

—Emerging Operations [Uncrewed Aircraft Systems (UAS), Advanced Air Mobility (AAM), Commercial Space, Autonomous Operations]

a. Qualifications: Candidates must demonstrate good public standing as well as technical capacities. Proficiencies, expertise, and subject mastery that inform the Agency's strategy for R&D areas will be critical to selections along with experience on advisory committees/boards/councils and research and development. This solicitation is open to leaders from industry, academia, other government agencies, and/or subject matter expert/advisory committee representatives. Applicants must be citizens or permanent residents of the United States.

b. Materials to Submit: Proposed nominees for the Research, Engineering, and Development Advisory Committee (REDAC) are required to submit a professional resume or curriculum vitae for review in order to be considered for membership on the (REDAC). Submissions that do not comply with the following rules, terms, and conditions may be disqualified:

i. Submissions must be in English and in a format readable by Microsoft Word or Adobe PDF. Scanned hand-written submissions will be disqualified.

ii. Applicants may not be a current employee of the DOT, including but not limited to the FAA;

iii. Submission Marking and Freedom of Information Act (FOIA), 5 U.S.C. 552: All materials submitted to the FAA as a part of a membership nomination submission become FAA records and are subject to release under the FOIA.

Issued in Washington, DC.
Chinita Roundtree-Coleman,
REDAC PM/Lead, Federal Aviation Administration.

[FR Doc. 2022-22646 Filed 10-18-22; 8:45 am]

BILLING CODE 4910-13-P